OFFICE OF THE UNITED STATES TRADE REPRESENTATIVE

Fiscal Year 2017 Allocation of Additional Tariff-Rate Quota Volume for Raw Cane Sugar

AGENCY: Office of the United States Trade Representative.

ACTION: Notice.

SUMMARY: The Office of the United States Trade Representative (USTR) is providing notice of country-by-country allocations of additional Fiscal Year (FY) 2017 in-quota quantity of the tariff-rate quota (TRQ) for imported raw cane sugar as announced by Secretary of Agriculture on July 25, 2017.

DATES: This notice is applicable on August 2, 2017.

FOR FURTHER INFORMATION CONTACT: Ronald Baumgarten, Office of Agricultural Affairs, (202) 395-9583 or Ronald_Baumgarten@ustr.eop.gov.

SUPPLEMENTARY INFORMATION: Pursuant to Additional U.S. Note 5 to Chapter 17 of the Harmonized Tariff Schedule of the United States (HTS), the United States maintains TRQs for imports of raw cane and refined sugar.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007, January 4, 1995).

On July 25, 2017 (82 FR 34472), the Secretary of Agriculture announced an additional in-quota quantity of the TRQ for raw cane sugar for the remainder of FY2017 (ending September 30, 2017) in the amount of 244,690 metric tons raw value (MTRV). The conversion factor is 1 metric ton equals1.10231125 short tons. This quantity is in addition to the minimum amount to which the United States is committed under the World Trade Organization (WTO) Uruguay Round Agreements (1,117,195 MTRV). The Department of Agriculture also has determined that all sugar entering the United States under the FY2017 raw sugar TRQ will be permitted to enter U.S. Customs territory through October 31, 2017, a month later than the typical entry date deadline. USTR is allocating this total quantity of 244,690 MTRV to the following countries in the amounts specified below:

Country | FY2017 raw cane sugar increase (MTRV)
Argentina | 15,575
Australia | 30,064
Belize | 3,984
Brazil | 13,962
Colombia | 8,693
Costa Rica | 5,433
Ecuador | 3,984
El Salvador | 9,417
Fiji | 3,260
Guatemala | 17,386
Guyana | 4,347
Honduras | 3,622
India | 2,898
Jamaica | 3,984
Malawi | 3,622
Mauritius | 4,347
Mozambique | 4,709
Nicaragua | 7,606
Panama | 10,504
Peru | 14,851
Philippines | 48,898
South Africa | 8,331
Swaziland | 5,795
Thailand | 5,071
Zimbabwe | 4,347

USTR based these allocations on the countries' historical shipments to the United States. The allocations of the raw cane sugar TRQ to countries that are net importers of sugar are conditioned on receipt of the appropriate verifications of origin, and certificates for quota eligibility must accompany imports from any country for which an allocation has been provided.

Sharon E. Bomer Lauritsen,
Assistant U.S. Trade Representative, Agricultural Affairs and Commodity Policy.

[FR Doc. 2017-16288 Filed 7-31-17; 11:15 am]

BILLING CODE 3290-F7-P